NUCLEAR REGULATORY COMMISSION

[NRC-2011-0119]

Final Staff Guidance, Revision 4 to Standard Review Plan; Section 8.1 on Electric Power—Introduction

AGENCY: Nuclear Regulatory Commission.

ACTION: Notice of availability.

SUMMARY: The U.S. Nuclear Regulatory Commission (NRC) is issuing its final Revision 4 to NUREG-0800, “Standard Review Plan for the Review of Safety Analysis Reports for Nuclear Power Plants,” Standard Review Plan (SRP) Section 8.1 on “Electric Power—Introduction,” (Agencywide Documents Access and Management System (ADAMS) Accession No. ML113640121), and the Branch Technical Position (BTP) 8-8 (ADAMS Accession No. ML113640138). The NRC staff issues revisions to SRP sections to facilitate timely implementation of the current staff guidance and to facilitate reviews to amendments to licenses for operating reactors or for activities associated with review of applications for early site permits and combined licenses for the Office of New Reactors. The NRC staff will also incorporate Revision 4 of SRP Section 8.1 into the next revisions of the Regulatory Guide 1.206, “Combined License Applications for Nuclear Power Plants,” and related guidance documents.

Disposition: On May 31, 2011 (76 FR 31381), the NRC published for public comment the proposed Revision 4 on Section 8.1 on “Electric Power—Introduction,” (ADAMS Accession No. ML111180542) and the companion BTP 8-8 (ADAMS Accession No. ML111180521). There were two comments received on the proposed revision (ADAMS Accession Nos. ML11172A125 and ML11180A204). These comments were incorporated as appropriate and the details of disposition of the stakeholder's comments are available under (ADAMS Accession No. ML113640144). The Redline version that shows the difference between the proposed notice and current is also made public (ADAMS Accession No.ML113640140).

Congressional Review Act: In accordance with the Congressional Review Act, the NRC has determined that this action is not a major rule and has verified this determination with the Office of Information and Regulatory Affairs of the Office of Management and Budget.

ADDRESSES: The NRC maintains ADAMS, which provides text and image files of the NRC's public documents. Publicly available documents created or received at the NRC are available online in the NRC Library at http://www.nrc.gov/reading-rm/adams.html. Persons who do not have access to ADAMS or who encounter problems in accessing the documents located in ADAMS should contact the NRC's Public Document Room reference staff at 1-800-397-4209, 301-415-4737, or by email at pdr.resource@nrc.gov.

FOR FURTHER INFORMATION CONTACT: Ms. Amy E. Cubbage, Chief, Policy Branch, Division of Advanced Reactors and Rulemaking, Office of New Reactors, U.S. Nuclear Regulatory Commission, Washington, DC, 20555-0001; telephone at 301-415-2875 or email at amy.cubbage@nrc.gov.

SUPPLEMENTARY INFORMATION: The NRC posts its issued staff guidance on the NRC external web page (http://www.nrc.gov/reading-rm/doc-collections/isg/).

Dated at Rockville, Maryland, this15th day of February 2012.
For the Nuclear Regulatory Commission.
Amy E. Cubbage,
Chief, Policy Branch, Division of Advanced Reactors and Rulemaking, Office of New Reactors.

[FR Doc. 2012-4651 Filed 2-27-12; 8:45 am]

BILLING CODE 7590-01-P